DEPARTMENT OF VETERANS AFFAIRS

Privacy Act of 1974; System of Records

AGENCY: Veterans Health Administration, Department of Veterans Affairs (VA).

ACTION: Notice of a modified system of records.

SUMMARY: As required by the Privacy Act of 1974, notice is hereby given that the Department of Veterans Affairs (VA) is modifying the system of records entitled, “Readjustment Counseling Service (RCS) Vet Center Program-VA” (64VA10RCS) as set forth in the Federal Register. VA is amending the system of records by revising the System Number; System Location; Authority for Maintenance of the System; Purpose of the System; Categories of Individuals Covered by the System; Categories of Records in the System; Record Source Categories; Routine Uses of Records Maintained in the System; Policies and Practices for Storage of Records; Policies and Practices for Retention and Disposal of Records; Physical, Procedural and Administrative Safeguards; Record Access Procedures; and Notification Procedure. VA is republishing the system notice in its entirety.

DATES: Comments on this amended system of records must be received no later than 30 days after date of publication in the Federal Register. If no public comment is received during the period allowed for comment or unless otherwise published in the Federal Register by the VA, the modified system of records will become effective a minimum of 30 days after date of publication in the Federal Register. If VA receives public comments, VA shall review the comments to determine whether any changes to the notice are necessary.

ADDRESSES: Comments may be submitted through www.Regulations.gov or mailed to VA Privacy Service, 810 Vermont Avenue NW, (005R1A), Washington, DC 20420. Comments should indicate that they are submitted in response to “Readjustment Counseling Service (RCS) Vet Center Program-VA” (64VA10RCS). Comments received will be available at regulations.gov for public viewing, inspection or copies.

FOR FURTHER INFORMATION CONTACT: Stephania Griffin, Veterans Health Administration (VHA) Privacy Officer, Department of Veterans Affairs, 810 Vermont Avenue NW, Washington, DC 20420; telephone (704) 245-2492 (Note: this is not a toll-free number).

SUPPLEMENTARY INFORMATION: The System Number is being updated from 64VA10RCS to 64VA10 to reflect the current VHA organizational routing symbol.

The System Location is being updated to include RCSNet electronic record system. Archived paper records are being destroyed by shredding which process will be complete by 2022.

Authority for Maintenance of the System is being amended to include Title 38 Code of Federal Regulations (CFR) 17.2000(e).

The Purpose of the System is being updated to include Title 38 CFR 17.2000(e), which requires that Vet Center records be independent from VA or Department of Defense (DoD) health records and not be disclosed without the eligible individual's voluntarily signed authorization or under the conditions of a permissive disclosure as outlined below under Routine Uses. The information documented provides an accountable record of the course of Vet Center services provided inclusive of psychosocial assessments, number and type of visits provided, type of readjustment counseling sessions provided and referrals, along with follow-up documentation made to VA partners for other services needed for a successful readjustment. Vet Center Call Center records will be used for quality assurance purposes.

Categories of Individuals Covered by the System is being updated to include follow-up information. Eligibility has been extended to Veterans and Service members including Reserve, National Guard and the Coast Guard who were activated in response to a national emergency, a state or national civil disturbance, or foreign drug interdiction. Family members of all eligible individuals are eligible for family readjustment counseling as indicated for the successful readjustment of the eligible individual. Family counseling is also available for family members of deployed Service members to assist them adjust to the deployment.

Categories of Records in the System is being updated to include signed General Consent for the receipt of readjustment counseling, documentation of the Warwick-Edinberg Mental Well-Being Scale and suicide risk assessment. Bereavement services and military sexual trauma counseling are also included in the Vet Center counseling record. Also documented in the Vet Center client record are health care power of attorney, court ordered counseling information and completed release of information (ROI) authorizations as needed to promote efficient and expedient sharing of confidential information for referral and case coordination with VA medical center partners.

Record Source Categories is being updated to include in item #2 VA electronic health record. This section will add item #4 Veterans, Service Members and their family, item #5 VA employees and VA health care providers, and #6 Vet Center Call Center.

The language in Routine Use #3 is being updated. It previously stated that disclosure of the records to the Department of Justice (DoJ) is a use of the information contained in the records that is compatible with the purpose for which VA collected the records and that VA may disclose records in this system of records in legal proceedings before a court or administrative body after determining that the disclosure of the records to the court or administrative body is a use of the information contained in the records that is compatible with the purpose for which VA collected the records. This routine use will now state that VA may disclose information to the DoJ or in a proceeding before a court, adjudicative body, or other administrative body before which VA is authorized to appear, when:

(a) VA or any component thereof;

(b) Any VA employee in his or her official capacity;

(c) Any VA employee in his or her official capacity where DoJ has agreed to represent the employee; or

(d) The United States, where VA determines that litigation is likely to affect the agency or any of its components, is a party to such proceedings or has an interest in such proceedings, and VA determines that use of such records is relevant and necessary to the proceedings.

Routine Use #5 has been updated by clarifying the language to state, “VA may disclose information that, either alone or in conjunction with other information, indicates a violation or potential violation of law, whether civil, criminal, or regulatory in nature, to a Federal, state, local, territorial, tribal, or foreign law enforcement authority or other appropriate entity charged with the responsibility of investigating or prosecuting such violation or charged with enforcing or implementing such law. The disclosure of the names and addresses of Veterans and their dependents from VA records under this routine use must also comply with the provisions of 38 U.S.C. 5701.”

Routine Use #7 has been updated by clarifying the language to state, “VA may disclose any information or records to appropriate agencies, entities, and persons when (1) VA suspects or has confirmed that there has been a breach of the system of records; (2) VA has determined that as a result of the suspected or confirmed breach there is a risk to individuals, VA (including its information systems, programs, and operations), the Federal Government, or national security; and (3) the disclosure made to such agencies, entities, or persons is reasonably necessary to assist in connection with VA efforts to respond to the suspected or confirmed breach or to prevent, minimize, or remedy such harm.”

Routine use #8 is being added to state, “VA may disclose information from this system of records to another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.”

Policies and Practices for Storage of Records is updated to include Paper Client Records established prior to 2010 have been archived and scanned copies have been uploaded into the RCS electronic record system.

Policies and Practices for Retention and Disposal of Records is being updated to remove “(a) All obsolete Vet Center paper client records are being archived through VA Records Management and will be retained at one or more of the authorized Department of Veterans Affairs Records Center Vaults for 50 years after the date of last activity. Destruction of paper counseling folders will be by shredding. (b) The Client Record will be maintained for the duration of the program. Destruction will be by deleting all sensitive information on all RCS national data support center servers and all stand-alone personal computers connected to the program electronic database located at all RCS Vet Centers, regional management offices, and RCS VACO.” This section is updated to state that the RCS electronic client records will be maintained in the national computerized RCSNet servers for 45 years after the last episode of service, after which time they will be destroyed.

The Physical, Procedural and Administrative Safeguards section is being updated to remove, “RCS staff access to the paper Client Record will be controlled by staff during working hours. During after hours, records will be maintained in locked file cabinets. In higher crime areas, Vet Center offices are equipped with alarm systems.” This section will include section (c) Authorized RCS staff will have access to the Client Record via stand-alone RCSNet computers located in locked RCS facilities: Vet Centers, District Director Offices, and VA Central Office.

The Report of Intent to Amend a System of Records Notice and an advance copy of the system notice have been sent to the appropriate Congressional committees and to the Director of the Office of Management and Budget (OMB) as required by 5 U.S.C. 552a(r) (Privacy Act) and guidelines issued by OMB (65 FR 77677), December 12, 2000.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on March 17, 2022 for publication.

Dated: April 27, 2022.
Amy L. Rose,
Program Analyst, VA Privacy Service, Office of Information Security, Office of Information and Technology, Department of Veterans Affairs.

SYSTEM NAME:

Readjustment Counseling Service (RCS) Vet Center Program-VA (64VA10).

SECURITY CLASSIFICATION:

Unclassified.

SYSTEM LOCATION:

(a) Vet Center Client Record: Starting in Fiscal Year 2010 the location of the Client Record was transitioned from paper files maintained at each individual Vet Center to being electronically maintained in the national computerized intra-net database (RCSNet). The RCSNet servers are located in Philadelphia, PA in a secure, protected, and approved VA Office of Information and Technology (OIT) Service Delivery and Engineering (SDE) site maintained by OIT personnel. Full confidentiality for RCS Veteran client information is maintained by limiting access to RCS qualified personnel with the appropriate authority to administer RCS program data systems.

(b) All paper Client Records established prior to 2010 have been archived and scanned copies have been are uploaded into RCSNet electronic record system.

SYSTEM MANAGER(S):

Chief Readjustment Counseling Officer (10RCS), VA Central Office, 810 Vermont Ave. NW, Washington, DC 20420. Telephone number 202-461-6525 (this is not a toll-free number).

AUTHORITY FOR MAINTENANCE OF THE SYSTEM:

Title 38, United States Code (U.S.C.), section 1712A; Title 38 CFR 17.2000(e).

PURPOSE(S) OF THE SYSTEM:

Title 38 CFR 17.2000(e), requires that Vet Center records be independent from VA or DoD medical records and not be disclosed without the eligible individual's voluntarily signed authorization, or under the conditions of a permissive disclosure as outlined below under Routine Uses. The purpose of this RCS system of records is to maintain client confidentiality, and to collect and maintain demographic and clinical information required by Vet Center counselors to provide quality readjustment counseling to eligible Veterans, Service members and their families. The information documented provides an accountable record of the course of Vet Center services provided inclusive of psychosocial assessment, number and type of visits provided, type of readjustment counseling sessions provided and referrals, along with follow-up documentation made to VA partners for other services needed for a successful readjustment. Vet Center Call Center records will be used for quality assurance purposes.

CATEGORIES OF INDIVIDUALS COVERED BY THE SYSTEM:

Eligibility for readjustment counseling includes Veterans or Service members who served in a combat theater or an area of armed hostility, inclusive of those who provided direct emergency medical care, or mortuary services to the casualties of combat operations, even if such services were provided outside of the combat theater. Eligibility also includes actions against enemy forces by remotely controlling unmanned aerial vehicles from outside the combat theater. Eligibility has been extended to Veterans, Service members including Reserve, National Guard and the Coast Guard who were activated in response to a national emergency, a state or national civil disturbance, or foreign drug interdiction. Family members of all eligible individuals are eligible for family readjustment counseling as indicated for the successful readjustment of the eligible individual. Family counseling is also available for family members of deployed Service members to assist them adjust to the deployment.

CATEGORIES OF RECORDS IN THE SYSTEM:

The Client Record contains demographic personally identifiable information (PII), such as unique Veteran identification number, name, address, Social Security number, marital status, gender identity, birth date, military service information, Veteran eligibility information, referral, and follow-up information, signed General Consent for the receipt of readjustment counseling, and other identifying statistical information. The Vet Center Client Record also contains protected health information (PHI) such as documentation of the Warwick-Edinberg Mental Well-Being Scale, suicide risk assessment, psychosocial assessment, military history, service plans and ongoing case clinical notes documenting the course of readjustment counseling service delivery. Bereavement services and military sexual trauma counseling information are also included in the Vet Center counseling record. Also, documented in the Vet Center client record are health care power of attorney, court ordered counseling information, and completed release of information (ROI) authorizations as needed to promote efficient and expedient sharing of confidential information for referral and case coordination with VA medical center partners.

RECORD SOURCE CATEGORIES:

(1) Relevant forms to be filled out by Vet Center team members on first contact and each contact thereafter; counseling sessions with Veterans and other eligible counselees; (2) Other VA and Federal agency systems, including from the VA electronic health record; (3) Relevant Veteran data protocols completed by Vet Center staff to document the course of readjustment counseling provided (4) Veterans, Service Members and their family; and (5) VA employees and VA health care providers; (6) Vet Center Call Center.

ROUTINE USES OF RECORDS MAINTAINED IN THE SYSTEM, INCLUDING CATEGORIES OF USERS AND THE PURPOSES OF SUCH USES:

To the extent that records contained in the system include information protected by 45 CFR parts 160 and 164, i.e., individually identifiable health information of VHA or any of its business associates, and 38 U.S.C. 7332; i.e., medical treatment information related to drug abuse, alcoholism or alcohol abuse, sickle cell anemia, or infection with the human immunodeficiency virus, that information cannot be disclosed under a routine use unless there is also specific statutory authority in both 38 U.S.C. 7332 and CFR parts 160 and 164 permitting disclosure.

1. VA may disclose information to a Member of Congress or staff acting upon the Member's behalf when the Member or staff requests the information on behalf of, and at the request of, the individual who is the subject of the record.

2. VA may disclose information to National Archives and Records Administration (NARA) in records management inspections conducted under 44 U.S.C. 2904 and 2906, or other functions authorized by laws and policies governing NARA operations and VA records management responsibilities.

3. VA may disclose information to the Department of Justice (DoJ), or in a proceeding before a court, adjudicative body, or other administrative body before which VA is authorized to appear, when:

(a) VA or any component thereof;

(b) Any VA employee in his or her official capacity;

(c) Any VA employee in his or her official capacity where DoJ has agreed to represent the employee; or

(d) The United States, where VA determines that litigation is likely to affect the agency or any of its components, is a party to such proceedings or has an interest in such proceedings, and VA determines that use of such records is relevant and necessary to the proceedings.

4. VA may disclose information to contractors, grantees, experts, consultants, students, and others performing or working on a contract, service, grant, cooperative agreement, or other assignment for VA, when reasonably necessary to accomplish an agency function related to the records.

5. VA may disclose information that, either alone or in conjunction with other information, indicates a violation or potential violation of law, whether civil, criminal, or regulatory in nature, to a Federal, state, local, territorial, tribal, or foreign law enforcement authority or other appropriate entity charged with the responsibility of investigating or prosecuting such violation or charged with enforcing or implementing such law. The disclosure of the names and addresses of Veterans and their dependents from VA records under this routine use must also comply with the provisions of 38 U.S.C. 5701.

6. VA may disclose to other Federal agencies to assist such agencies in preventing and detecting possible fraud or abuse by individuals in their operations and programs.

7. VA may disclose any information or records to appropriate agencies, entities, and persons when (1) VA suspects or has confirmed that there has been a breach of the system of records; (2) VA has determined that as a result of the suspected or confirmed breach there is a risk to individuals, VA (including its information systems, programs, and operations), the Federal Government, or national security; and (3) the disclosure made to such agencies, entities, or persons is reasonably necessary to assist in connection with VA efforts to respond to the suspected or confirmed breach or to prevent, minimize, or remedy such harm.

8. VA may disclose information from this system to another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Vet Center Client Record Storage:

(a) Client Records established during and after 2010 are electronically stored in the national computerized RCSNet servers located in Philadelphia, PA, in a secure, protected, and approved VA OIT Service Delivery and Engineering (SDE) environment maintained by OIT personnel.

(b) Paper Client Records established prior to 2010 have been archived and scanned copies have been are uploaded into the RCSNet electronic record system.

POLICIES AND PRACTICES FOR RETRIEVAL OF RECORDS:

The Vet Center Client Record is indexed by the Vet Center number in conjunction with the Veteran's name, Social Security number (SSN) and unique Veteran client number.

POLICIES AND PRACTICES FOR RETENTION AND DISPOSAL OF RECORDS:

The RCS electronic client records will be maintained in the national computerized RCSNet servers for 45 years after the last episode of service, after which time they will be destroyed.

ADMINISTRATIVE, TECHNICAL, AND PHYSICAL SAFEGUARDS:

(a) Within RCS access to the Vet Center Client Record is limited to authorized RCS staff (Vet Center, District Director Office, and/or the Office of the Chief Readjustment Counseling Officer in VACO) with a legitimate need to know connected to direct service delivery and/or the quality oversight of services provided. RCS staff access to the electronic Vet Center Client Record is via standalone computers located in locked RCS facilities. RCS program computers are username and password protected. Computer security is in compliance with RCS and VA computer security policy and protocol.

(b) Access to Veteran's or Service member's counseling records by elements outside of RCS, VA or non-VA, is contingent upon the Veteran's or Service member's signed authorization, or to one of the routine uses identified above.

(c) Authorized RCS staff will have access to the Client Record via stand-alone RCSNet computers located in locked RCS facilities: Vet Centers, District Director Offices, and VA Central Office.

RECORD ACCESS PROCEDURE:

An individual (or duly authorized representative of such individual) who seeks access to or wishes to contest records maintained under his or her name or other personal identifier may write, call or visit the individuals listed under Notification Procedure below.

CONTESTING RECORD PROCEDURES:

(See Record Access Procedures above.)

NOTIFICATION PROCEDURE:

A Veteran who wishes to determine whether a record is being maintained by the Readjustment Counseling Service Vet Center Program under his or her name or other personal identifier or wishes to determine the contents of such records should submit a written request or apply in person to: (1) The Vet Center Director, (2) the RCS Deputy District Director having supervisory responsibility for the Vet Center, with whom he or she had contact, or (3) the Deputy Chief Readjustment Counseling Officer (10RCS), VA Central Office, 810 Vermont Ave. NW, Washington, DC 20420. Inquiries should include the individual's full name and Social Security number.

EXEMPTIONS PROMULGATED FOR THE SYSTEM:

None.

HISTORY:

Last full publication provided in 81 FR 36655.

[FR Doc. 2022-09374 Filed 4-29-22; 8:45 am]

BILLING CODE P